SOCIAL SECURITY ADMINISTRATION

[Docket No. SSA-2024-0014]

Privacy Act of 1974; Matching Program

AGENCY: Social Security Administration (SSA).

ACTION: Notice of a new matching program.

SUMMARY: In accordance with the provisions of the Privacy Act, as amended, this notice announces a new matching program with the Railroad Board (RRB). Under this matching program, the RRB will disclose to SSA information necessary to verify an individual's self-certification of eligibility for the Extra Help with Medicare Prescription Drug Plan Costs program (Extra Help). It will also enable SSA to identify individuals who may qualify for Extra Help as part of the agency's Medicare outreach efforts.

DATES: The deadline to submit comments on the proposed matching program is November 4, 2024.

The matching program will be applicable on March 30, 2025, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2024-0014 so that we may associate your comments with the correct regulation.

Caution: You should be careful to include in your comments only information that you wish to make publicly available. We strongly urge you not to include in your comments any personal information, such as Social Security numbers or medical information.

1. internet: We strongly recommend that you submit your comments via the internet. Please visit the Federal eRulemaking portal at http://www.regulations.gov. Use the “Search” function to find docket number SSA-2024-0014 and then submit your comments. The system will issue you a tracking number to confirm your submission. You will not be able to view your comment immediately because we must post each submission manually. It may take up to a week for your comments to be viewable.

2. Fax: Fax comments to (410) 966-0869.

3. Mail: Matthew Ramsey, Executive Director, Office of Privacy and Disclosure, Office of the General Counsel, Social Security Administration, G-401 WHR, 6401 Security Boulevard, Baltimore, MD 21235-6401, or emailing Matthew.Ramsey@ssa.gov. Comments are also available for public viewing on the Federal eRulemaking portal at http://www.regulations.gov or in person, during regular business hours, by arranging with the contact person identified below.

FOR FURTHER INFORMATION CONTACT: Interested parties may submit general questions about the matching program to Andrea Huseth, Division Director, Office of Privacy and Disclosure, Office of the General Counsel, Social Security Administration, G-401 WHR, 6401 Security Boulevard, Baltimore, MD 21235-6401, at telephone: (410) 966-1943, or send an email to Cynthia.Scott@ssa.gov.

Matthew Ramsey,
Executive Director, Office of Privacy and Disclosure, Office of the General Counsel.

Participating Agencies

SSA and RRB.

Authority for Conducting the Matching Program

This matching agreement between RRB and SSA is executed pursuant to the Privacy Act of 1974, (5 U.S.C. 552a), as amended by the Computer Matching and Privacy Protection Act of 1988, and the Office of Management and Budget Final Guidance interpreting those Acts.

The legal authority for the disclosures under this agreement is the Privacy Act of 1974, as amended (5 U.S.C. 552a(b)(3)), which authorizes a Federal agency to disclose information from its system of records, without prior written consent, when such disclosure is pursuant to a routine use.

The legal authority for SSA to conduct this matching activity is sections 1144 and 1860D-14 of the Social Security Act (Act) (42 U.S.C. 1320b-14 and 1395w-114).

Purpose(s)

This matching agreement establishes the conditions under which the RRB will disclose to SSA information necessary to verify an individual's self certification of eligibility for Extra Help. It will also enable SSA to identify individuals who may qualify for Extra Help as part of the agency's Medicare outreach efforts.

Categories of Individuals

The individuals whose information is involved in this matching program are individuals who self certify for Extra Help or may qualify for Extra Help. SSA matches RRB's information with its Medicare Database (MDB) File, which includes claimants; applicants; beneficiaries; ineligible spouses; and potential claimants for Medicare Part A, Medicare Part B, Medicare Advantage Part C, Medicare Part D and for Medicare Part D prescription drug coverage subsidies.

Categories of Records

RRB will transmit its annuity payment data monthly from its RRB-22, Railroad Retirement Survivors and Pension Benefits System, system of records. The file will consist of approximately 600,000 electronic records.

RRB will transmit its Post Entitlement System file daily. The number of records will differ each day but consists of approximately 3,000 to 4,000 records each month.

RRB will transmit files on all Medicare eligible Qualified Railroad Retirement Beneficiaries from its RRB-20, Health Insurance and Supplementary Medical Insurance Enrollment and Premium Payment System (Medicare), and RRB-22 systems of records to report address changes and subsidy changing event information monthly. The file will consist of approximately 520,000 electronic records. The number of people who apply for Extra Help determines, in part, on the number of records matched.

SSA's comparison file will consist of approximately 90 million records obtained from the MDB File.

SSA will conduct the match using each individual's Social Security number, name, date of birth, RRB claim number, and RRB annuity payment amount in both RRB and the MDB File.

System(s) of Records

RRB will provide SSA with data from its RRB-22 system of records, last published on September 30, 2014 (79 FR 58886), and RRB-20 systems of records, last published on May 15, 2015 (80 FR 28018).

SSA will match RRB's data with its MDB File, system of records No. 60-0321, published on July 25, 2006 (71 FR 42159), and amended on December 10, 2007 (72 FR 69723) and November 1, 2018 (83 FR 54969).

[FR Doc. 2024-22769 Filed 10-2-24; 8:45 am]

BILLING CODE 4191-02-P